DEPARTMENT OF THE INTERIOR

National Park Service

[N6438; NPS-WASO-NAGPRA-NPS0040848; PPWOCRADN0-PCU00RP14.R50000]

Notice of Intended Repatriation: University of California, Santa Barbara, Repository for Archaeological and Ethnographic Collections, Santa Barbara, CA

AGENCY: National Park Service, Interior.

ACTION: Notice.

SUMMARY: In accordance with the Native American Graves Protection and Repatriation Act (NAGPRA), the University of California, Santa Barbara (UCSB) Repository for Archaeological and Ethnographic Collections intends to repatriate certain cultural items that meet the definition of objects of cultural patrimony and that have a cultural affiliation with the Indian Tribes or Native Hawaiian organizations in this notice.

DATES: Repatriation of the cultural items in this notice may occur on or after September 22, 2025.

ADDRESSES: Send additional, written requests for repatriation of the cultural items in this notice to Hugh Radde, University of California, Santa Barbara, 4129 Cheadle Hall, Santa Barbara, CA 93106-2033, email NAGPRA@ucsb.edu.

SUPPLEMENTARY INFORMATION: This notice is published as part of the National Park Service's administrative responsibilities under NAGPRA. The determinations in this notice are the sole responsibility of the UCSB Repository for Archaeological and Ethnographic Collections, and additional information on the determinations in this notice, including the results of consultation, can be found in the summary or related records. The National Park Service is not responsible for the determinations in this notice.

Abstract of Information Available

A total of six cultural items have been requested for repatriation. The six objects of cultural patrimony are five stone tools and one clam shell disc bead. It is unknown if the collections were exposed to hazardous substances.

Of the cultural items being requested, four objects of cultural patrimony are large bifacial stone tools made from various material types (Accession 128). As of 2025, one stone tool is missing from the collection. The items were donated to UC Santa Barbara in 1960 by Mrs. Freddie Curtis. Although the exact provenience is unknown, they were reportedly collected from the vicinity of Black Canyon near Mojave in Kern County, CA. The precise date of removal from the site is also unknown, but it is believed to have occurred prior to 1960.

Of the cultural items being requested, one object of cultural patrimony is a chipped stone item made of chert (Accession 250.49). On an unknown date, the item was removed from CA-KERN-455 in Kern County, CA. It was collected by Chester King in 1977 and was later transferred to UC Santa Barbara, though the date of transfer is also unknown.

Of the cultural items being requested, one object of cultural patrimony is a single clam shell disc bead (Accession 829.Kern). The item was collected from the surface of a location referred to as the Bitter Springs site in Kern County, California. The exact provenience and identity of the collector are unknown. The date of transfer to UC Santa Barbara is also unknown.

Determinations

The UCSB Repository for Archaeological and Ethnographic Collections has determined that:

• The six objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Tejon Indian Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 22, 2025. If competing requests for repatriation are received, the UCSB Repository for Archaeological and Ethnographic Collections must determine the most appropriate requestor prior to repatriation. Requests for joint repatriation of the cultural items are considered a single request and not competing requests. The UCSB Repository for Archaeological and Ethnographic Collections is responsible for sending a copy of this notice to the Indian Tribes and Native Hawaiian organizations identified in this notice and to any other consulting parties.

Authority: Native American Graves Protection and Repatriation Act, 25 U.S.C. 3004 and the implementing regulations, 43 CFR 10.9.

Dated: August 6, 2025.
Melanie O'Brien,
Manager, National NAGPRA Program.

[FR Doc. 2025-15969 Filed 8-20-25; 8:45 am]

BILLING CODE 4312-52-P